DEPARTMENT OF HEALTH AND HUMAN SERVICES

National Institutes of Health

Center for Scientific Review; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel, Electromagnetic Devices.

Date: February 10, 2010.

Time: 12 p.m. to 4 p.m.

Agenda: To review and evaluate grant applications.

Place: National Institutes of Health, 6701 Rockledge Drive, Bethesda, MD 20892. (Telephone Conference Call)

Contact Person: Antonio Sastre, PhD, Scientific Review Officer, Center for Scientific Review, National Institutes of Health, 6701 Rockledge Drive, Room 5215, MSC 7412, Bethesda, MD 20892, 301-435-2592, sastrea@csr.nih.gov.

Name of Committee:Center for Scientific Review Special Emphasis Panel, Member Conflict: Genetics, Substance Use and Other Behaviors.

Date:February 11, 2010.

Time:1:30 p.m. to 3:30 p.m.

Agenda:To review and evaluate grant applications.

Place:National Institutes of Health, 6701 Rockledge Drive, Bethesda, MD 20892. (Telephone Conference Call)

Contact Person:Heidi B. Friedman, PhD, Scientific Review Officer, Center for Scientific Review, National Institutes of Health, 6701 Rockledge Drive, Room 1012A, MSC 7770, Bethesda, MD 20892, 301-435-0906, hfriedman@csr.nih.gov.

Name of Committee:Center for Scientific Review Special Emphasis Panel, Academic-Industry Partnership in Cancer Imaging.

Date:February 13, 2010.

Time:8 a.m. to 1 p.m.

Agenda:To review and evaluate grant applications.

Place:Bahia Resort Hotel, 998 West Mission Bay Drive, San Diego, CA 92109.

Contact Person:Antonio Sastre, PhD, Scientific Review Officer, Center for Scientific Review, National Institutes of Health, 6701 Rockledge Drive, Room 5215, MSC 7412, Bethesda, MD 20892, 301-435-2592, sastrea@csr.nih.gov.

Name of Committee:Center for Scientific Review Special Emphasis Panel, Bacterial Pathogenesis Study Section.

Date:February 16, 2010.

Time:8 a.m. to 6 p.m.

Agenda:To review and evaluate grant applications.

Place:Ritz Carlton Hotel, 1150 22nd Street, NW., Washington, DC 20037.

Contact Person:Fouad A. El-Zaatari, PhD, Scientific Review Officer, Center for Scientific Review, National Institutes of Health, 6701 Rockledge Drive, Room 3186, MSC 7808, Bethesda, MD 20892, (301) 435-1149, elzaataf@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: January 20, 2010.
Jennifer Spaeth,
Director, Office of Federal Advisory Committee Policy.

[FR Doc. 2010-1654 Filed 1-27-10; 8:45 am]

BILLING CODE 4140-01-P